DEPARTMENT OF ENERGY

Federal Energy Regulatory Commission

Sunshine Act Meeting

September 7, 2000.

The following notice of meeting is published pursuant to section 3(a) of the Government in the Sunshine Act (Pub. L. No. 94-409), 5 U.S.C 552B:

AGENCY HOLDING MEETING: Federal Energy Regulatory Commission.

DATE AND TIME: September 14, 2000, 2 p.m.

PLACE: Room 2C, 888 First Street, NE, Washington, DC 20426.

STATUS: Open.

MATTERS TO BE CONSIDERED: Agenda.

Note: Items listed on the agenda may be deleted without further notice.

CONTACT PERSON FOR MORE INFORMATION: David P. Boergers, Secretary, Telephone (202) 208-0400. For a recording listing items stricken from or added to the meeting, call (202) 208-1627.

This is a list of matters to be considered by the Commission. It does not include a listing of all papers relevant to the items on the agenda; however, all public documents may be examined in the reference and information center.

747th—Meeting September 14, 2000, Regular Meeting (2:00 p.m.)

Consent Agenda—Markets, Tariffs and Rates—Electric

CAE-1.

Docket# ER99-4392, 000, Southwest Power Pool, Inc.

Other#s ER99-4392, 003, Southwest Power Pool, Inc.

CAE-2.

Docket# ER00-718, 000 Tampa Electric Company

Other#s ER00-718, 001, Tampa Electric Company

CAE-3.

Docket# ER00-1534, 000, Ocean State Power, II

Other#s ER00-1535, 000, Ocean State Power

CAE-4.

Docket# ER00-2814, 000, Commonwealth Edison Company

Other#s ER00-2814, 001, Commonwealth Edison Company

CAE-5.

Docket# ER00-3300, 000, Northeast Power Coordinating Council

CAE-6.

Docket# ER00-1053, 002, Maine Public Service Company

Other#s ER00-1053, 000, Maine Public Service Company

CAE-7.

Docket# ER00-1319, 003, Wisconsin Energy Corporation Operating Companies

Other#s ER00-1319, 000, Wisconsin Energy Corporation Operating Companies

CAE-8.

Docket# ER97-1523, 018, Central Hudson Gas & Electric Corporation, Orange and Rockland Utilities, Inc., Rochester Gas and Electric Corporation, Consolidated Edison Company of New York, Inc., Long Island Lighting Company, New York State Electric and GAS Corporation, Niagara Mohawk Power Corporation and New York Power Pool

Other#s OA97-470, 017, Central Hudson Gas & Electric Corporation, Orange and Rockland Utilities, Inc., Rochester Gas and Electric Corporation, Consolidated Edison Company of New York, Inc., Long Island Lighting Company, New York State Electric and Gas Corporation, Niagara Mohawk Power Corporation and New York Power Pool

OA97-470, 040, Central Hudson Gas & Electric Corporation, Orange and Rockland Utilities, Inc., Rochester Gas and Electric Corporation, Consolidated Edison Company of New York, Inc., Long Island Lighting Company, New York State Electric and Gas Corporation, Niagara Mohawk Power Corporation and New York Power Pool

ER97-1523, 042, Central Hudson Gas & Electric Corporation, Orange and Rockland Utilities, Inc., Rochester Gas and Electric Corporation, Consolidated Edison Company of New York, Inc., Long Island Lighting Company, New York State Electric and Gas Corporation, Niagara Mohawk Power Corporation and New York Power Pool

ER97-4234, 015, Central Hudson Gas & Electric Corporation, Orange and Rockland Utilities, Inc., Rochester Gas and Electric Corporation, Consolidated Edison Company of New York, Inc., Long Island Lighting Company, New York State Electric and Gas Corporation, Niagara Mohawk Power Corporation and New York Power Pool

ER97-4234, 038, Central Hudson Gas & Electric Corporation, Orange and Rockland Utilities, Inc., Rochester Gas and Electric Corporation, Consolidated Edison Company of New York, Inc., Long Island Lighting Company, New York State Electric and Gas Corporation, Niagara Mohawk Power Corporation and New York Power Pool

CAE-9.

Docket# ER99-4323, 000, Pacific Gas and Electric Company

Other#s ER99-4323, 001, Pacific Gas and Electric Company

CAE-10.

Docket# ER00-612, 000, Ameren Operating Companies

CAE-11.

Docket# ER97-1523, 045, Central Hudson Gas & Electric Corporation, Orange and Rockland Utilities, Inc., Rochester Gas and Electric Corporation, Consolidated Edison Company of New York, Inc., Long Island Lighting Company, New York State Electric and Gas Corporation, Niagara Mohawk Power Corporaton and New York Power Pool

Other#s ER97-4234, 041, Central Hudson Gas & Electric Corporation, Orange and Rockland Utilities, Inc., Rochester Gas and Electric Corporation, Consolidated Edison Company of New York, Inc., Long Island Lighting Company, New York State Electric and Gas Corporation, Niagara Mohawk Power Corporaton and New York Power Pool

OA97-470, 043, Central Hudson Gas & Electric Corporation, Orange and Rockland Utilities, Inc., Rochester Gas and Electric corporation, Consolidated Edison Company of New York, Inc., long island lighting company, New York State Electric and Gas Corporation, Niagara Mohawk Power Corporation and New York Power Pool

CAE-12.

Docket# ER97-1523, 043, Central Hudson Gas & Electric Corporation, Orange and Rockland Utilities, Inc., Rochester Gas and Electric Corporation, Consolidated Edison Company of New York, Inc., Long Island Lighting Company, New York State Electric and Gas Corporation, Niagara Mohawk Power Corporation and New York Power Pool

Other#s OA97-470, 041, Central Hudson Gas & Electric Corporation, Orange and Rockland Utilities, Inc., Rochester Gas and Electric Corporation, Consolidated Edison Company of New York, Inc., Long Island Lighting Company, New York State Electric and Gas Corporation, Niagara Mohawk Power Corporation and New York Power Pool

ER97-4234, 039, Central Hudson Gas & Electric Corporation, Orange and Rockland Utilities, Inc., Rochester Gas and Electric Corporation, Consolidated Edison Company of New York, Inc., Long Island Lighting Company, New York State Electric and Gas Corporation, Niagara Mohawk Power Corporation and New York Power Pool

CAE-13.

Docket# ER00-1026, 003, Indianapolis Power & Light Company

Other#s ER00-1026, 000, Indianapolis Power & Light Company

CAE-14.

Docket# ER99-2339, 004, Sierra Pacific Power Company

Other#s ER99-2339, 000, Sierra Pacific Power Company

CAE-15.

Docket# ER00-2003, 001, Sierra Pacific Power Company

Other# ER00-2003, 000, Sierra Pacific Power Company

CAE-16.

Docket# ER93-465, 001, Florida Power & Light Company

Other#s EL93-28, 000, Florida Power & Light Company

EL93-28, 001, Florida Power & Light Company

EL93-28, 002, Florida Power & Light Company

EL93-28, 003, Florida Power & Light Company

EL93-28, 004, Florida Power & Light Company

EL93-28, 005, Florida Power & Light Company

EL93-28, 006, Florida Power & Light Company

EL93-28, 007, Florida Power & Light Company

EL93-28, 008, Florida Power & Light Company

EL93-40, 000, Florida Power & Light Company

EL93-40, 001, Florida Power & Light Company

EL93-40, 002, Florida Power & Light Company

EL93-40, 003, Florida Power & Light Company

EL93-40, 004, Florida Power & Light Company

EL93-40, 005, Florida Power & Light Company

EL93-40, 006, Florida Power & Light Company

EL93-40, 007, Florida Power & Light Company

EL93-40, 008, Florida Power & Light Company

ER93-465, 000, Florida Power & Light Company

ER93-465, 002, Florida Power & Light Company

ER93-465, 003, Florida Power & Light Company

ER93-465, 004, Florida Power & Light Company

ER93-465, 005, Florida Power & Light Company

ER93-465, 006, Florida Power & Light Company

ER93-465, 007, Florida Power & Light Company

ER93-465, 008, Florida Power & Light Company

ER93-465, 009, Florida Power & Light Company

ER93-465, 010, Florida Power & Light Company

ER93-465, 011, Florida Power & Light Company

ER93-465, 012, Florida Power & Light Company

ER93-465, 013, Florida Power & Light Company

ER93-465, 014, Florida Power & Light Company

ER93-465, 015, Florida Power & Light Company

ER93-465, 016, Florida Power & Light Company

ER93-465, 017, Florida Power & Light Company

ER93-465, 018, Florida Power & Light Company

ER93-465, 019, Florida Power & Light Company

ER93-465, 020, Florida Power & Light Company

ER93-465, 021, Florida Power & Light Company

ER93-465, 022, Florida Power & Light Company

ER93-465, 023, Florida Power & Light Company

ER93-465, 024, Florida Power & Light Company

ER93-465, 025, Florida Power & Light Company

ER93-465, 026, Florida Power & Light Company

ER93-507, 000, Florida Power & Light Company

ER93-507, 001, Florida Power & Light Company

ER93-507, 002, Florida Power & Light Company

ER93-507, 003, Florida Power & Light Company

ER93-507, 004, Florida Power & Light Company

ER93-507, 005, Florida Power & Light Company

ER93-507, 006, Florida Power & Light Company

ER93-507, 007, Florida Power & Light Company

ER93-922, 000, Florida Power & Light Company

ER93-922, 001, Florida Power & Light Company

ER93-922, 002, Florida Power & Light Company

ER93-922, 003, Florida Power & Light Company

ER93-922, 004, Florida Power & Light Company

ER93-922, 005, Florida Power & Light Company

ER93-922, 006, Florida Power & Light Company

ER93-922, 007, Florida Power & Light Company

ER93-922, 008, Florida Power & Light Company

ER93-922, 009, Florida Power & Light Company

ER93-922, 010, Florida Power & Light Company

ER93-922, 011, Florida Power & Light Company

ER93-922, 012, Florida Power & Light Company

ER93-922, 013, Florida Power & Light Company

EC94-12, 000, Florida Power & Light Company

EL94-12, 001, Florida Power & Light Company

EL94-12, 002, Florida Power & Light Company

EL94-12, 003, Florida Power & Light Company

EL94-12, 005, Florida Power & Light Company

EL94-12, 006, Florida Power & Light Company

EL94-12, 007, Florida Power & Light Company

EL94-12, 008, Florida Power & Light Company

EL94-28, 000, Florida Power & Light Company

EL94-28, 001, Florida Power & Light Company

EL94-28, 002, Florida Power & Light Company

EL94-28, 003, Florida Power & Light Company

EL94-28, 004, Florida Power & Light Company

EL94-28, 005, Florida Power & Light Company

EL94-28, 006, Florida Power & Light Company

EL94-47, 000, Florida Power & Light Company

EL94-47, 001, Florida Power & Light Company

EL94-47, 002, Florida Power & Light Company

EL94-47, 003, Florida Power & Light Company

EL94-47, 004, Florida Power & Light Company

EL94-47, 005, Florida Power & Light Company

EL94-47, 006, Florida Power & Light Company

OA96-39, 000, Florida Power & Light Company

OA96-39, 001, Florida Power & Light Company

OA96-39, 002, Florida Power & Light Company

OA96-39, 003, Florida Power & Light Company

ER96-417, 000, Florida Power & Light Company

ER96-1375, 000, Florida Power & Light Company

ER96-1375, 001, Florida Power & Light Company

ER96-2381, 000, Florida Power & Light Company

ER96-2381, 001, Florida Power & Light Company

OA97-245, 000, Florida Power & Light Company

DR98-24, 000, Florida Power & Light Company

EL99-69, 000, Florida Power & Light Company

EL99-69, 001, Florida Power & Light Company

ER99-723, 000, Florida Power & Light Company ER99-723, 001, Florida Power & Light Company ER99-723, 002, Florida Power & Light Company ER99-2770, 000, Florida Power & Light Company ER99-2770, 001, Florida Power & Light Company ER99-2770, 002, Florida Power & Light Company ER00-13, 000, Florida Power & Light Company

CAE-17.

Omitted

CAE-18.

Omitted

CAE-19.

Omitted

CAE-20.

Docket# EL00-92, 000, North Central Missouri Electric Cooperative, Inc.

CAE-21.

Docket# EL00-93, 000, Midland Cogeneration Venture Limited Partnership

CAE-22.

Docket# EL00-87, 000, Fresno Cogeneration Partners, L.P.

Other#s QF88-134, 002, Fresno Cogeneration Partners, L.P.

CAE-23.

Omitted

CAE-24.

Docket# EL00-88, 000, Allegheny Electric Cooperative, Inc. v. Pennsylvania Electric Company

CAE-25.

Docket# OA97-163, 011, Mid-Continent Area Power Pool

Other#s OA97-658 011 Mid-Continent Area Power Pool; ER97-1162, 010, Mid-Continent Area Power Pool

CAE-26.

Docket# ER00-3214, 000, Pacific Gas & Electric Company

Consent Agenda—Markets, Tariffs and RateS—Gas

CAG-1.

Docket# RP99-190, 002, National Fuel Gas Distribution Corporation

CAG-2.

Docket# RP00-455, 000, Honeoye Storage Corporation

CAG-3.

Omitted

CAG-4.

Omitted

CAG-5.

Docket# RP99-351, 000, Florida Gas Transmission Company

CAG-6.

Docket# RP00-169, 000, Natural Gas Pipeline Company of America

CAG-7.

Docket# RP00-249, 000, Transwestern Pipeline Company

Other#s RP00-249, 001, Transwestern Pipeline Company

CAG-8.

Docket# RP00-430, 000, Norteno Pipeline Company

CAG-9.

Omitted

CAG-10.

Docket# RP00-316, 001, Kinder Morgan Interstate Gas Transmission LLC

CAG-11.

Docket# PR00-14, 001, Aim Pipeline, LLC

Other# PR00-14, 000, Aim Pipeline, LLC

CAG-12.

Docket# PR00-3, 000, Creole Gas Pipeline Corporation

Other#s PR00-3 001 Creole Gas Pipeline Corporation

CAG-13.

Docket# RP00-205, 002, PG&E Gas Transmission, Northwest Corporation

Other#s RP00-205, 000, PG&E Gas Transmission, Northwest Corporation; RP00-205, 003, PG&E Gas Transmission, Northwest Corporation

CAG-14.

Omitted

CAG-15.

Docket# CP96-152, 027, Kansas Pipeline Company

Other#s RP99-485, 000, Kansas Pipeline Company

CAG-16.

Docket# RP97-284, 002, Southern California Edison Company v. Southern California Gas Company

Other#s RP97-284, 000, Southern California Edison Company v. Southern California Gas Company

Consent Agenda—Miscellaneous CAM-1.

Docket# RM00-12, 000, Electronic Filing of Documents

Consent Agenda—Energy Projects—Hydro

CAH-1.

Docket# P-2543, 046, Montana Power Company

CAH-2.

Docket# P-10703, 039, City of Centralia, Washington, Light Department

CAH-3.

Docket# P-2188, 030, PP&L Montana, LLC

CAH-4.

Docket# P-11828, 000, Universal Electric Power Corporation

CAH-5.

Docket# HB02-00-1, 000, Public Utility District No. 1 of Chelan County, Washington, Eugene Water and Electric Board, City of Seattle, Washington, Public Utility District No. 2 of Grant County, Washington, Public Utility District No. 1 of Pend Oreille County, Washington, Public Utility District No. 1 of Douglas County, Washington, Portland General Electric Company, Avista Corporation and PP&L Montana, LLC

Consent Agenda—Energy Projects—Certificates

CAC-1.

Docket# CP00-129, 000, Horizon Pipeline Company, L.L.C.

Other#s CP00-130, 000, Horizon Pipeline Company, L.L.C.; CP00-131 000 Horizon Pipeline Company, L.L.C.; CP00-132 000 Natural Gas Pipeline Company of America

CAC-2.

Docket# CP00-59, 000, Petal Gas Storage, L.L.C.

Other#s CP00-59, 001, Petal Gas Storage, L.L.C.

CAC-3.

Docket# CP99-21, 003, Northern Border Pipeline Company

CAC-4.

Docket# CP98-49, 005, KN Wattenberg Transmission Limited Liability Company

CAC-5.

Omitted

CAC-6.

Docket# GP00-1, 000, Williams Energy Marketing & Trading Company

CAC-7.

Docket# CP95-168, 003, Sea Robin Pipeline Company

Energy Projects—Hydro Agenda

H-1.

Reserved

Energy Projects—Certificates Agenda

C-1.

Reserved

Markets, Tariffs and Rates—Electric Agenda

E-1.

Reserved

Markets, Tariffs and Rates—Gas Agenda

G-1.

Reserved

David P. Boergers,
Secretary.

[FR Doc. 00-23474 Filed 9-8-00; 11:10 am]

BILLING CODE 6717-01-P